DEPARTMENT OF COMMERCE

National Oceanic and Atmospheric Administration

RIN 0648-XL07

Fisheries in the Western Pacific; Certification Requirements for Electronic Logbook Applications

AGENCY: National Marine Fisheries Service (NMFS), National Oceanic and Atmospheric Administration (NOAA), Commerce.

ACTION: Notice; certification requirements for electronic logbook applications.

SUMMARY: This notice describes the certification process and requirements for vendors wishing to supply western Pacific fishing vessel owners and operators with electronic logbook applications (e-log applications).

ADDRESSES: You may request copies of the NOAA Fishery Information System (FIS) Electronic Logbook Certification Guidelines (Certification Guidelines), and submit requests for certification of e-log applications to: Electronic Reporting System Manager, Pacific Islands Fisheries Science Center (PIFSC), NMFS, 2570 Dole Street, Honolulu, HI 96822-2396, tel 808-983-5326; fax 808-983-2902.

FOR FURTHER INFORMATION CONTACT: Kurt Kawamoto, PIFSC, tel. 808-983-5326.

SUPPLEMENTARY INFORMATION: This notice is also accessible at www.gpoaccess.gov/fr.

Background

NMFS encourages the use of e-log applications as an alternative to paper logbooks and data reports. This recognizes that many fishermen use electronic navigation and communications equipment aboard their vessels, as well as computers for recording and maintaining catch and effort information, business records, and other information in a coordinated system that facilitates more efficient fishing operations. Accordingly, many fishermen wish to file Federal catch and effort reports in electronic format. This approach makes data submission easier for fishermen and reduces data entry and processing time for NMFS staff.

Further, NMFS notes that if reports were to be submitted in connection with other at-sea communication means, electronic reports could be near real-time, which could facilitate monitoring and compliance efforts in circumstances that demand at-sea reporting. NMFS also must ensure that electronic data reports are in a standardized format that is compatible with the data management system for historical fishery records and for hard-copy processing. Otherwise, the benefits of electronic submissions are reduced.

Based on recommendations from the Western Pacific Fishery Management Council, NMFS published a final rule that modified the reporting and recordkeeping requirements for western Pacific fisheries, offering fishermen the option of submitting either paper or electronic logbook records (72 FR 19123, April 17, 2007). The objectives of allowing electronic reporting include reducing the amount of time spent by fishermen to complete and file paper reports, improving the accuracy of reports, and reducing the time spent by NMFS personnel to process the logbook data. That final rule did not establish the technical requirements for electronic logbook programs.

To implement electronic reporting, PIFSC will specify an “open” program whereby fishery participants may select from a variety of e-log applications that have been certified as eligible to participate in the electronic logbook program. An e-log application includes the following functions: gathering and storing logbook data (data entry), generating (exporting) electronic logbooks, and viewing logbook data on the application database and the electronic logbook. The aim of the certification process is to encourage the use of electronic logbooks for the reporting of catch and effort data by promoting standard data exchange procedures, formats, and application validation tests. The certification process provides vendors with technical guidelines for minimally-prescribed performance elements and criteria to meet data management requirements. The goal of certification is to ensure that PIFSC-certified e-log applications will ensure, to the extent practicable, that submitted electronic logbooks are complete and accurate and that the electronic submission will be successfully integrated into the NMFS data system in a secure manner.

Fishermen must comply with Federal fishery reporting requirements, and are held accountable for data accuracy. Certification is necessary to provide a benchmark of performance standards and criteria for vendors to develop e-log applicatins that meet NMFS requirements. Certification enables vendor competition and potentially more product choices for fishermen. This is preferable to specifying a single supplier or e-log application. Certification does not guarantee that a product is free of defects; it means only that a product has passed validation tests aimed at complete, accurate, and successful reporting of logbook data. Certification does not protect the vendor from any product liability claims made by customers. The use of a certified e-log application does not exempt fisherman from any western Pacific recordkeeping requirements.

General Certification Process

Based on a request for a vendor certification, PIFSC will evaluate the submitted e-log application and issue a statement to accept or deny the vendor's request. The vendor must demonstrate that the submitted e-log application meets the standards set forth in this notice and in the Certification Guidelines for timely, accurate, and complete data submission in the proper format and structure for the fisheries reports required by Federal regulations. Upon successful demonstration of compliance with the standards and the Certification Guidelines, PIFSC will issue a vendor certification for the e-log application. PIFSC will initially certify e-log applications only for Hawaii-based pelagic longline fisheries; other certifications may follow.

NMFS certification will not result in government endorsement or procurement of any related electronic hardware or software for use in NMFS data systems. PIFSC will request a fact sheet from the vendor to provide information to the fishing industry about the e-log application that was certified, the costs of the application, and possibly other value-added services that the vendor or application may provide. This will allow fishermen to make purchase decisions that are compatible with the data reporting and logbook requirements of Federal regulations and their personal needs.

Initiation

PIFSC will initiate the vendor certification process upon written request from the vendor (or distributor or reseller acting within the constraints of its agreement with the vendor), subject to the demonstration of compliance with this notice and the availability of test hardware and software. Consideration will be given to a vendor that has already successfully completed a comparable certification process in another U.S. fishery recordkeeping program. PIFSC will also consider certifying a vendor that resells, packages, or integrates e-log applications from a company that has been certified in a similar program for another U.S. fishery.

A vendor requesting certification shall describe in detail the manner in which the proposed e-log application would meet the specifications outlined in this notice and in the Certification Guidelines. The vendor must supply PIFSC, at no cost, with at least one set of the hardware and software components for which certification is desired so that the proposed application can be tested and evaluated. PIFSC intends to complete the testing and certification process within 90 days. The vendor must provide documentation, including such fact sheets, operator manuals, user handbooks, or other materials that would be provided to fishermen purchasing the application. PIFSC will review the submission against the standards and Certification Guidelines, will perform trials using test fishery data, and may conduct field trials aboard fishing vessels. These tests may involve demonstrating every aspect of the e-log application, including troubleshooting procedures. In addition to the vendor providing everything the hardware and software needed to test and certify an e-log application, PIFSC must also receive any updates to the product(s) at no cost.

Certification Criteria

The ultimate goal of certification is to provide complete, accurate, and successful reporting of electronic logbook data. All data elements required for an electronic logbook must be supported. And, data values must be correctly transferred from the e-log application to electronic logbook in the correct file format and structure. Complete and accurate reporting means that all logbook information recorded by fishermen is reported in the electronic logbook, and that the information is stored and reported exactly as entered. Successful reporting means that each element of an electronic logbook submitted to PIFSC can be loaded into the NMFS data system automatically.

The criteria for certification are as follows:

1. Creation of electronic logbook document or files. The e-log application must be capable of creating electronic logbook documents on demand in the agreed file format using standard file naming conventions. The document file contents may vary by fishery, but initially must contain the contents of the NMFS Western Pacific Daily Longline Fishing Log, as follows:

• Fishery: Hawaii Pelagic Longline

• Electronic Logbook Document Contents: One trip including all sets, catch and effort records, protected species interaction records, and e-log application information

2. Inspection tool for use by authorized personnel. The vendor must provide a companion e-log application “viewer program” and documentation for use by PIFSC and other authorized personnel to inspect e-log application data. The viewer program must run on Windows XP, and must provide read-only access to all elements of the electronic logbook database and electronic logbook files. The viewer program must not have the capability to alter the logbook data. The documentation must include installation instructions and user instructions for PIFSC and other authorized personnel.

3. Electronic Logbook Test Support Requirements. For test purposes, the e-log application must allow data entry of all electronic logbook data elements. (See Appendix 3 of the Certification Guidelines for specific data elements that must be enterable.)

4. Common Information Requirements. The information requirements common to all e-log applications for all fisheries are contained in Appendix 2 of the Certification Guidelines: Common Information Requirements. It covers the following requirements:

• PIR Standard Codes: Reference codes for common information requirements. Example--Port code HNL for Honolulu, HI.

• Date/Time: Date and time formatting requirements.

• Calendar Date: Calendar date formatting requirements.

• Geographic Location: Geographic (latitude/longitude) formatting requirements.

• Source Keys: Requirements for reporting keys or identifiers used in the e-log application itself. Some source keys are required or recommended to allow cross-referencing between NMFS logbook records and the fisherman's e-log application.

• Unknown values: Requirements for recording unknown (null) values.

• Electronic Logbook file names and extensions: File-naming conventions for electronic logbook files.

5. Fishery Specific Electronic Logbook Requirements. The e-log application must support the creation of the electronic logbook in a file format agreed upon by PIFSC and the vendor. The preferred file format for electronic logbook submission is XML. If PIFSC approves one or more electronic signature methods for use with electronic logbooks, the e-log application must also support at least one approved electronic signature method. Fishery specific information and file layout specifications are available in the Appendices to the Certification Guidelines, including the following:

• Fishery: Hawaii Pelagic Longline

• Reference: 50 CFR part 665, Subpart C, Western Pacific Pelagics

• Specifications: PIR-LB-1.1-1, Appendix 3

Requests for Certification

Requestors must submit a request for certification to PIFSC. Requestors should contact PIFSC for current application requirements which may include the items listed in sections 1 through 5 below:

1. Identifiers

a. Trade name of the service;

b. Company name;

c. Company headquarters address and phone number;

d. Principal company employee point of contact for this submission;

e. Principal business of the company;

f. Parent and subsidiary companies, if applicable;

g. Name(s) and location(s) of principal facilities; and

h. Name and address of Hawaii point of contact, if applicable.

2. E-log application components and supporting documents

a. Hardware requirements;

b. Software requirements;

c. Application description and documentation;

d. Handbooks, user manuals, and other supporting documents;

e. Sample electronic logbook document(s) produced by the e-log application, and instructions to guide testing staff to substantially reproduce the document(s);

f. Troubleshooting procedures; and

g. e-log application and viewer (Windows XP).

h. Requested certification(s)

3. Technical specifications of the e-log application

a. E-log application version numbers;

b. Data entry format (compatibility with paper logbook format);

c. Data formatting requirements; and

d. Electronic logbook data storage and submission media.

4. Customer service

a. Local point of contact information (name, phone number, email address, etc.);

b. Data security procedures and assurances;

c. Fishermen's privacy and confidentiality procedures and assurances;

d. Technical assistance procedures and contacts; and

e. Updates of PIR Standard Codes into the e-log application by fishermen.

5. Litigation support and vendor agreements

a. Vendor contact for litigation support;

b. Vendor technical expert on e-log application ;

c. Past experience in court documentation/appearances on e-log applications;

d. Non-disclosure agreement; and

e. Agreement to the certification guideline terms including an agreement to provide litigation support.

Litigation Support

Logbook information and other data reports may be used for law enforcement purposes, and all technical aspects of a vendor's submission are subject to being admitted as evidence in court, as needed. The reliability of all technologies utilized in the e-log application may be analyzed in court for, among other things, testing procedures, error rates, peer review, and general industry acceptance. Further, the vendor may be required to provide technical and expert support for litigation to support the application's capabilities and to establish cases against violators. If the vendor's application has previously been subject to such scrutiny in a court of law, the vendor should describe the evidence and any court finding on the reliability of the application.

Additionally, to maintain the integrity of the e-log application for fisheries management, the vendor will be required to sign a non-disclosure agreement limiting the release of certain information that might compromise either the confidentiality of fishermen's personally identifying information or proprietary fishing data. The vendor shall include a statement confirming its agreement with these conditions. The scope of litigation support may include, but is not limited to, technical capabilities of the e-log application, e-log application support and training content, alterations to the e-log application, and data content and history.

A vendor may voluntarily retire a certification to terminate its obligation to provide litigation support for the product; such action must be in writing to PIFSC. The vendor's obligation to provide litigation support will end 180 calendar days after such notification is received. If a certification is retired, the e-log application is no longer available for use in the fishery.

Change Control

Once an e-log application is certified, it is the responsibility of the vendor to notify PIFSC of any change in its submission, such as a change affecting hardware or software components, performance characteristics, or customer support services or contacts. PIFSC reserves the right to reconsider and revoke the certification if, as a result of the change, the vendor's application is deemed to no longer satisfy PIFSC reporting and recordkeeping requirements. The vendor must report to the PIFSC e-log technical panel (as described in the Certification Guidelines) any changes to the certified product, along with updated copies of the new configuration prior to deploying the changes to customers. If the change affects the e-log application components used to meet the requirements, PIFSC may require re-evaluation and possible recertification. The technical panel will notify the vendor within 30 days with a recertification statement which will say whether a recertification is required and if so, why and when the recertification would be completed. The vendor may report planned changes to the certified e-log application to PIFSC and request an advisory recertification statement within 30 days. The vendor is permitted to provide quick code upgrades for customers to handle critical defects; however, the vendor must report the code change to PIFSC prior to deploying the change to a customer.

Advertising Prohibition

Once a product is certified, the vendor may state that the product is “certified for electronic logbook submission for the Hawaii pelagic longline fishery.” However, the vendor must not use in the vendor's name or the product name, or claim endorsement of the e-log application by, any of the following: NOAA, NMFS, PIFSC, or PIRO.

Expiration of Certification

The certification expiration date for a product is determined by changes to PIFSC reporting requirements and reporting activity by product users. Additionally, PIFSC may set an expiration date for a certification based on other requirements. PIFSC will notify the vendor at least 120 days prior to expiration. PIFSC will set an expiration date for a certification if the product has not been used to submit an electronic logbook for three years.

Revocation of Certification

PISFC may revoke certification of a product if any of the following occurs:

1. PIFSC repeatedly receives inaccurate or incorrectly formatted electronic logbooks and the error is traced to a defect in the e-log application;

2. The vendor modifies a certified e-log application without reporting the modification to PIFSC; or

3. The vendor violates advertising prohibitions.

If a certification is revoked, the e-log application is no longer available for use in the fishery.

Authority: 16 U.S.C. 1801 et seq.

Dated: June 30, 2009.
Alan D. Risenhoover,
Director, Office of Sustainable Fisheries, National Marine Fisheries Service.

[FR Doc. E9-15958 Filed 7-6-09; 8:45 am]

BILLING CODE 3510-22-S